DEPARTMENT OF THE INTERIOR

Bureau of Indian Affairs

[K00621 1314 R3B30]

Notice of Intent to Prepare an Environmental Impact Statement for the Proposed Lac du Flambeau Band Fee-to-Trust Acquisition and Casino Project in Shullsburg, Wisconsin

AGENCY: Bureau of Indian Affairs, Interior.

ACTION: Notice.

SUMMARY: In compliance with the National Environmental Policy Act (NEPA), of 1969, this notice advises the public that the Bureau of Indian Affairs (BIA) intends to gather the information necessary for preparing an Environmental Impact Statement (EIS) for a fee-to-trust transfer and casino project in the City of Shullsburg, Wisconsin, proposed by the Lac du Flambeau Band of Lake Superior Chippewa Indians (Tribe). This notice also announces a public scoping meeting to identify potential issues, alternatives, and content for inclusion in the EIS.

DATES: The public scoping meeting will be held Thursday, August 15, 2013, and will begin at 6 p.m. and last until the last public comment is received. Written comments on the scope of the EIS or implementation of the proposal must arrive by August 30, 2013.

ADDRESSES: The public scoping meeting will be held at the Shullsburg High School, 444 N. Judgement Street, Shullsburg, Wisconsin. You may mail, hand deliver, or telefax written comments to Diane Rosen, Regional Director, Midwest Regional Office, Bureau of Indian Affairs, 5600 West American Boulevard, Suite 500, Bloomington, Minnesota 55437, Telefax (612) 713-4401.

FOR FURTHER INFORMATION CONTACT: Scott Doig, Regional Environmental Protection Specialist, Midwest Regional Office, Bureau of Indian Affairs, 5600 West American Boulevard, Suite 500, Bloomington, Minnesota 55437; telephone: (612) 725-4514.

SUPPLEMENTARY INFORMATION: The Tribe's application requests the Department to transfer into trust 20 acres of land located within the municipal limits of the City of Shullsburg, Wisconsin. The purpose of the proposed action is to help meet the Tribe's economic development needs in Wisconsin. This would be accomplished by development of a gaming resort facility with Class III and Class II gaming, hotel, restaurant and retail facilities, entertainment and convention facilities, recreational vehicle park, sportsman's club, maintenance facilities, and surface parking. The property is located along the north side of State Highway 11 (SH-11) near the City of Shullsburg, Lafayette County, Wisconsin, approximately one-half mile west of the intersection of SH-11 and County Road O. The site is proposed to be accessible from SH-11.

Areas of environmental concern so far identified that the EIS will address include soils and geology, air quality, water supply, wastewater and storm water, biological resources, traffic and transportation, cultural and historic resources, socioeconomics, public health and safety, noise, and visual resources/aesthetics. Alternatives identified for analysis include the proposed action, a no-action alternative, a non-gaming alternative, and an alternative gaming site location. The range of issues addressed in the EIS may also be revised based on the comments received at the scoping meeting and in response to this notice.

Submittal of Public Comments: Please include your name, return address and the caption specifying “Scoping Comments for Proposed Lac du Flambeau Band Casino” on the first page of your written comments.

Public Comment Availability: Comments, including names and addresses of respondents, will be available for public review at the BIA address shown in the ADDRESSES section during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with § 1503.1 of the Council on Environmental Quality Regulations (40 CFR 1500 et seq.) and the Department of the Interior Regulations (43 CFR part 46) implementing the procedural requirements of the NEPA (42 U.S.C. 4321 et seq.), and in accordance with the exercise of authority delegated to the Assistant Secretary—Indian Affairs by part 209 of the Department Manual.

Dated: July 22, 2013.
Lawrence S. Roberts,
Principal Deputy Assistant Secretary—Indian Affairs.

[FR Doc. 2013-18114 Filed 7-26-13; 8:45 am]

BILLING CODE 4310-W7-P